DEPARTMENT OF ENERGY

Federal Energy Regulatory Commission

Combined Notice of Filings #2

Take notice that the Commission received the following electric rate filings:

Docket Numbers: ER10-1257-004; ER10-1258-004.

Applicants: Wabash Valley Power Association, Inc., Wabash Valley Energy Marketing, Inc.

Description: 2014 Updated Power Market Analysis of Wabash Valley Power Association, Inc., et al.

Filed Date: 12/29/14.

Accession Number: 20141229-5109.

Comments Due: 5 p.m. ET 2/27/15.

Docket Numbers: ER10-2331-028; ER14-630-005; ER14-1468-005; ER13-1351-003; ER10-2330-027; ER10-2326-027; ER10-2319-021; ER10-2317-021.

Applicants: J.P. Morgan Ventures Energy Corporation, AlphaGen Power LLC, BE Alabama LLC, BE CA LLC, KMC Thermo, LLC, Florida Power Development LLC, Utility Contract Funding, L.L.C., Cedar Brakes I, L.L.C.

Description: Notice of Non-Material Change in Status of J.P. Morgan Ventures Energy Corporation, et al.

Filed Date: 12/29/14.

Accession Number: 20141229-5099.

Comments Due: 5 p.m. ET 1/20/15.

Docket Numbers: ER10-2881-017; ER14-787-005; ER14-661-004; ER13-1541-011; ER13-1101-012; ER10-2886-017; ER10-2885-017; ER10-2884-017; ER10-2883-017; ER10-2882-017; ER10-2663-017; ER10-2641-017.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC, SG2 Imperial Valley LLC.

Description: Notification of Non-Material of Change in Status of Alabama Power Company, et al.

Filed Date: 12/29/14.

Accession Number: 20141229-5050.

Comments Due: 5 p.m. ET 1/20/15.

Docket Numbers: ER14-2858-002.

Applicants: Origin Wind Energy, LLC.

Description: Notice of Non-Material Change in Status of Origin Wind Energy, LLC.

Filed Date: 12/29/14.

Accession Number: 20141229-5071.

Comments Due: 5 p.m. ET 1/20/15.

Docket Numbers: ER15-692-000.

Applicants: Entergy Louisiana, LLC.

Description: § 205(d) rate filing per 35.13(a)(2)(iii): Settlement and Updated Reimbursement Agreement Under ER13-770 to be effective 12/19/2013.

Filed Date: 12/22/14.

Accession Number: 20141222-5194.

Comments Due: 5 p.m. ET 1/12/15.

Docket Numbers: ER15-743-000.

Applicants: Appalachian Power Company.

Description: § 205(d) rate filing per 35.13(a)(2)(iii): OATT—Revise Attachments K & L, TCC &TNC Rate Update to be effective 12/29/2014.

Filed Date: 12/29/14.

Accession Number: 20141229-5074.

Comments Due: 5 p.m. ET 1/20/15.

Docket Numbers: ER15-744-000.

Applicants: Trans Bay Cable LLC.

Description: § 205(d) rate filing per 35.13(a)(2)(iii): TRBAA Filing to be effective 1/1/2015.

Filed Date: 12/29/14.

Accession Number: 20141229-5111.

Comments Due: 5 p.m. ET 1/20/15.

Docket Numbers: ER15-745-000.

Applicants: AM Commodities Corporation.

Description: Initial rate filing per 35.12 a.m. Commodities Corporation—Baseline Tariff Filing to be effective 2/27/2015.

Filed Date: 12/29/14.

Accession Number: 20141229-5118.

Comments Due: 5 p.m. ET 1/20/15.

Docket Numbers: ER15-746-000.

Applicants: RC Cape May Holdings, LLC.

Description: § 205(d) rate filing per 35.13(a)(2)(iii): Second Revised Rate Schedule FERC No. 2 to be effective 12/31/9998.

Filed Date: 12/29/14.

Accession Number: 20141229-5126.

Comments Due: 5 p.m. ET 1/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2014.
Nathaniel J. Davis, Sr.,
Deputy Secretary.

[FR Doc. 2014-30826 Filed 1-2-15; 8:45 am]

BILLING CODE 6717-01-P